DEPARTMENT OF TRANSPORTATION

Federal Aviation Administration

14 CFR Part 135

[Docket No. FAA-2019-0360; Amdt. No. 135-145A]

RIN 2120-AL12

Removal of Check Pilot Medical Certificate Requirement; Correction

AGENCY: Federal Aviation Administration (FAA), U.S. Department of Transportation (DOT).

ACTION: Correcting amendments.

SUMMARY: On June 18, 2024, the Federal Aviation Administration (FAA) published a final rule titled “Removal of Check Pilot Medical Certificate Requirement,” which was corrected on July 16, 2024. That final rule removed inconsistencies applicable to the qualification requirements for check pilots and flight instructors in domestic, flag, and supplemental operations and flight instructors in commuter and on demand operations so that check pilots, check flight engineers, and flight instructors can continue to perform their functions in aircraft without a medical certificate unless they are serving as required flightcrew members. It also removed the medical certificate requirement for flight instructors in commuter and on-demand operations who perform their functions in aircraft and are not serving as required flightcrew members. The final rule inadvertently failed to revise two section headings. This document makes those corrections.

DATES: This correction is effective December 27, 2024.

FOR FURTHER INFORMATION CONTACT: Joshua Jackson, Aviation Safety Inspector, Air Transportation Division, Flight Standards Service, Federal Aviation Administration, 800 Independence Avenue SW, Washington, DC 20591; telephone: 202-267-8166; email: joshua.jackson@faa.gov.

SUPPLEMENTARY INFORMATION: On June 18, 2024, the FAA published a final rule titled “Removal of Check Pilot Medical Certificate Requirement.” ¹ That final rule removed inconsistencies applicable to the qualification requirements for check pilots and flight instructors in domestic, flag, and supplemental operations and flight instructors in commuter and on demand operations so that check pilots, check flight engineers, and flight instructors can continue to perform their functions in aircraft without a medical certificate unless they are serving as required flightcrew members. It also removed the medical certificate requirement for flight instructors in commuter and on-demand operations who perform their functions in aircraft and are not serving as required flightcrew members. This is the second set of corrections. The first set of corrections was published in the Federal Register on July 16, 2024 (89 FR 57729). This document augments the previously published corrections.

¹ Removal of Check Pilot Medical Certificate Requirement final rule, 89 FR 51416 (Jun. 18, 2024), corrected at 89 FR 57729 (Jul. 16, 2024).

After publication of the final rule, the FAA determined that the revisions to the section headings for §§ 135.339 and 135.340 had inadvertently not been made. The final rule intended to revise the section heading for § 135.339 by removing the obsolete terminology “check airmen (aircraft), check airmen (simulator)” and replacing them with “check pilots.” This would rename the heading to that section from “§ 135.339 Initial and transition training and checking: Check airmen (aircraft), check airmen (simulator),” to “§ 135.339 Initial and transition training and checking: Check pilots.” Similarly, the section heading for § 135.340 was also intended to be revised by removing the obsolete terminology “flight instructors (aircraft)” and “flight instructors (simulator)” and replacing those terms with “flight instructor. This would rename the heading to that section from “§ 135.340 Initial and transition training and checking: Flight instructors (aircraft), flight instructors (simulator)” to “§ 135.340 Initial and transition training and checking: Flight instructors.” However, the FAA failed to include the instruction to revise the section heading in the amendatory instructions for both sections. This document makes those corrections.

List of Subjects in 14 CFR Part 135

Aircraft, Airmen, Aviation safety, Reporting and recordkeeping requirements.

Accordingly, 14 CFR part 135 is corrected by making the following correcting amendments:

PART 135—OPERATING REQUIREMENTS: COMMUTER AND ON DEMAND OPERATIONS AND RULES GOVERNING PERSONS ON BOARD SUCH AIRCRAFT

1. The authority citation for part 135 continues to read as follows:

Authority: 49 U.S.C. 106(f), 40113, 41706, 44701-44702, 44705, 44709, 44711-44713, 44715-44717, 44722, 44730, 45101-45105; Pub. L. 112-95, 126 Stat. 58 (49 U.S.C. 44730).

2. Amend § 135.339 by revising the section heading to read as follows:

§ 135.339 Initial and transition training and checking: Check pilots.

3. Amend § 135.340 by revising the section heading to read as follows:

§ 135.340 Initial and transition training and checking: Flight instructors.

Issued under authority provided by 49 U.S.C. 106(f), 44701(a), and 44703 in Washington, DC.
Brandon Roberts,
Executive Director, Office of Rulemaking.

[FR Doc. 2024-30939 Filed 12-26-24; 8:45 am]

BILLING CODE 4910-13-P